DEPARTMENT OF AGRICULTURE

National Agricultural Statistics Service

Notice of Intent to Seek Approval to Extend an Information Collection

AGENCY: National Agricultural Statistics Service, USDA.

ACTION: Notice and request for comments.

SUMMARY: In accordance with the Paperwork Reduction Act of 1995 (Public Law 104-13) and Office of Management and Budget regulations at 5 CFR part 1320 (60 FR 44978, August 29, 1995), this notice announces the intention of the National Agricultural Statistics Service (NASS) to request approval to reinstate an information collection, the Conservation Effects Assessment Project Survey.

DATES: Comments on this notice must be received by May 25, 2005, to be assured of consideration.

ADDRESSES: Comments may be mailed to Ginny McBride, NASS Clearance Officer, U.S. Department of Agriculture, Room 5336 South Building, 1400 Independence Avenue, SW., Washington, DC 20250 or to gmcbride@nass.usda.gov or faxed to (202)-720-6396.

FOR FURTHER INFORMATION CONTACT: Rich Allen, Deputy Administrator Programs and Products, National Agricultural Statistics Service, U.S. Department of Agriculture, (202) 690-8141.

SUPPLEMENTARY INFORMATION: Title: Conservation Effects Assessment Project Survey.

OMB Control Number: 0535-0245.

Type of Request: Intent to Seek Approval to Reinstate an Information Collection.

Abstract: The primary objective of the National Agricultural Statistics Service is to prepare and issue State and national estimates of crop and livestock production, prices, and disposition. The goal of this NASS project is to collect land management information that will assist the Natural Resources Conservation Service (NRCS) in assessing environmental benefits associated with implementation of various conservation programs and installation of associated conservation practices. The 2002 Farm Bill substantially increased funding for the Environmental Quality Incentives Program (EQIP) as well as other conservation programs; a portion of the technical assistance funds for conservation programs has been allocated for use in assessing the environmental benefits of these conservation practices. The assessment will be used to report progress annually on Farm Bill implementation to Congress and the general public.

NRCS is leading a multi-agency effort to estimate the environmental benefits of conservation practices. Benefit measures will include soil quality enhancement, erosion reduction, reduction in nutrient and sediment losses from farm fields, soil carbon sequestration, water use efficiency, and reductions in in-stream nutrient and sediment concentrations. Investments are being made in additional model development to address benefits associated with reductions in pesticide losses, air quality, and wildlife habitat.

The assessment is designed to be national and regional in scope. A sampling and modeling approach has been adopted to avoid the high costs associated with expanded reporting by NRCS field staff.

Benefits will be estimated by applying transport models and other physical process models at sample sites associated with the National Resources Inventory (NRI) sampling frame. The NRI is a scientifically-based, longitudinal panel survey designed to assess conditions and trends of soil, water, and related resources of the Nation's non-federal lands. The NRI is conducted for the U.S. Department of Agriculture by NRCS in cooperation with the Iowa State University Center for Survey and Statistical Methods and provides critical information to address agri-environmental issues at national, regional, and State levels.

Data gathered in the NRI are linked to NRCS soil survey and climate databases. These linked data, along with NRI's historical data for 1982-2002, form the basis for unique modeling applications and analytical capabilities. The NRI sampling frame will be used for this project because it captures the diversity of the Nation's agricultural resource base (soils, topography, and climate), which is a critical factor in estimating benefits of conservation practices. Also critical are the historical and linked data that already exist for each NRI sample site. The assessment of benefits is not possible, however, without augmenting these existing data with additional information on land management and conservation practice adoption.

NASS will collaborate with NRCS in the acquisition of this additional information by conducting a survey for a sub-sample of NRI sample units in the contiguous 48 States. The survey will utilize personal interviews to administer a questionnaire that is designed to obtain from farm operators field-specific data associated with the selected sample units. Specific questions are asked about physical characteristics of the field, pesticide and fertilizer applications, and technical aspects of conservation practices associated with the field. Several other questions deal with production activities before and after implementation of specific conservation practices and with the operator's participation in conservation programs.

The survey design calls for conducting 7,500-12,000 interviews annually. The number of samples for a given year reflects changes in the budget. Approximately 30,000 completed responses will be “pooled” using statistical time series procedures. Interviews have already been conducted in the fall of 2003 and 2004 using this survey process. The 2005 survey represents the third year of this data collection effort. Each year's data collection will be for a different set of agricultural land units. If analysis indicates that more samples are needed to adequately estimate the benefits of conservation practices nationally, then data collection will be extended to include 2007.

These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 70 minutes per response.

Respondents: Farm operators.

Estimated Number of Annual Respondents: 12,000 maximum potential respondents.

Estimated Total Annual Burden on Respondents: 14,000 hours maximum.

Copies of this information collection and related instructions can be obtained without charge from Ginny McBride, NASS Clearance Officer, at (202) 720-5778.

Comments: Comments are invited on: (a) Whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, or other technological collection techniques or other forms of information technology.

All responses to this notice will become a matter of public record and be summarized in the request for OMB approval.

Signed at Washington, DC, February 22, 2005.
Rich Allen,
Deputy Administrator Program and Products.

[FR Doc. 05-5505 Filed 3-18-05; 8:45 am]

BILLING CODE 3410-20-P